DEPARTMENT OF HOMELAND SECURITY

8 CFR Parts 204, 214 and 215

[CIS No. 2432-07; DHS Docket No. USCIS-2007-0058]

RIN 1615-AB67

Changes to Requirements Affecting H-2B Nonimmigrants and Their Employers; Correction

AGENCY: U.S. Citizenship and Immigration Services, DHS.

ACTION: Final rule; correction.

SUMMARY: With this amendment, the Department of Homeland Security (DHS) corrects an inadvertent error that was made to the Final Rule titled “Changes to Requirements Affecting H-2B Nonimmigrants and Their Employers” that was published in the Federal Register on December 19, 2008, at 73 FR 78104.

DATES: This rule is effective January 18, 2009.

FOR FURTHER INFORMATION CONTACT: Hiroko Witherow, Business and Trade Services Division, Service Center Operations, U.S. Citizenship and Immigration Services, Department of Homeland Security, 20 Massachusetts Avenue, NW., Second Floor, Washington, DC 20529-2140, telephone (202) 272-9135.

SUPPLEMENTARY INFORMATION:

Need for Correction

On December 19, 2008, the Department of Homeland Security published a final rule in the Federal Register at 73 FR 78104 changing requirements affecting H-2B nonimmigrants and their employers. At 8 CFR 214.2, DHS inadvertently:

• Stated in amendment 5.aa that a new sentence would be added at the end of paragraph (h)(11)(i)(A) instead of saying that the last sentence of the paragraph was being revised;

• Omitted a period after the paragraph heading for paragraph (h)(6)(C); and

• Ended the sentence in paragraph (h)(11)(iii)(A)(2) with a “:” instead of a “;”.

Correction of Publication

Accordingly, the publication on December 19, 2008, at 73 FR 78104 of the interim final rule that was the subject of FR Doc. E8-30094 is corrected as follows:

PART 214-NONIMMIGRANT CLASSES

§ 214.2 [Corrected]

1. On page 78127, third column, amendment 5.aa., revise the amendatory language from “Adding a new sentence to the end of paragraph (h)(11)(i)(A)” to “Revising the last sentence of paragraph (h)(11)(i)(A)”.

2. On page 78128, second column, add a period immediately after the word “revocation” in the heading to paragraph (h)(6)(C).

3. On page 78130, in the second column, at the end of paragraph (h)(11)(iii)(A)(2), revise “: or” to read “; or”.

Dated: January 13, 2009.
Michael Aytes,
Acting Deputy Director, U.S. Citizenship and Immigration Services.

[FR Doc. E9-910 Filed 1-15-09; 8:45 am]

BILLING CODE 9111-97-P